DEPARTMENT OF ENERGY

Office of Energy Efficiency and Renewable Energy

Supporting Clean Energy Startups—Industry and Investment Partnerships for Scaling Innovation

AGENCY: Office of Energy Efficiency and Renewable Energy (EERE), Department of Energy (DOE).

ACTION: Notice of Request for Information.

SUMMARY: The U.S. Department of Energy's Office of Energy Efficiency and Renewable Energy's Technology-to-Market (T2M) team is issuing a Request for Information (RFI) on Supporting Clean Energy Startups—Industry and Investment Partnerships for Scaling Innovation. The purpose of this RFI is to gain public input on how T2M can best facilitate a more efficient clean energy innovation ecosystem in the U.S. T2M is looking to understand unaddressed challenges faced by early-stage clean energy start-ups and by the investors and industry partners that can help facilitate the transition of new technologies into the marketplace. The information being sought under this RFI is intended to assist EERE in further defining the scope and priorities of its initiatives.

DATES: Written comments and information are requested on or before November 14, 2016.

ADDRESSES: Interested persons are encouraged to submit comments, which must be submitted electronically to T2M@ee.doe.gov. The complete RFI, including the list of specific questions and submission instructions, can be found at https://eere-exchange.energy.gov/.

FOR FURTHER INFORMATION CONTACT: Questions may be directed to Johanna Wolfson, U.S. Department of Energy, Office of Energy Efficiency and Renewable Energy, EE-61, 1000 Independence Avenue SW., Washington, DC 20585-0121. Telephone: 202-586-1040. Email: T2M@ee.doe.gov.

SUPPLEMENTARY INFORMATION: None.

Issued in Washington, DC, on October 19, 2016.
Robert Dixon,
Director, Office of Strategic Programs, Office of Energy Efficiency and Renewable Energy.

[FR Doc. 2016-25763 Filed 10-24-16; 8:45 am]

BILLING CODE 6450-01-P